SMALL BUSINESS ADMINISTRATION

[License No. 03/73-0229]

Walker Investment Fund II SBIC, L.P.; Notice Seeking Exemption Under Section 312 of the Small Business Investment Act, Conflicts of Interest

Notice is hereby given that Walker Investment Fund II SBIC, L.P., 3060 Washington Road, Glenwood, MD 21738, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2002)). Walker Investment Fund II SBIC, L.P. proposes to provide preferred equity security financing to Butterfly.net, Inc., 224 West King Street, Martinsburg, WV 25401. The financing is contemplated to provide the company with the necessary working capital.

The financing is brought within the purview of § 107.730(a)(1) of the Regulations because Walker Investment Fund II, LLLP, an Associate of Walker Investment Fund II SBIC, L.P., owns an interest in Butterfly.net, Inc. greater than 10 percent. Therefore, this transaction is considered a financing of an Associate requiring prior SBA approval.

Notice is hereby given that any interested person may submit written comments on the transaction, within 15 days of the date of this publication, to the Associate Administrator for Investment, U.S. Small Business Administration, 409 Third Street, SW., Washington, DC 20416.

Dated: June 26, 2003.
Jeffrey D. Pierson,
Associate Administrator For Investment.

[FR Doc. 03-17025 Filed 7-3-03; 8:45 am]

BILLING CODE 8025-01-P